COMMITTEE FOR PURCHASE FROM PEOPLE WHO ARE BLIND OR SEVERELY DISABLED

Procurement List Addition

AGENCY: Committee for Purchase From People Who Are Blind or Severely Disabled.

ACTION: Addition to the Procurement List.

SUMMARY: This action adds to the Procurement List a commodity to be furnished by nonprofit agencies employing persons who are blind or have other severe disabilities.

EFFECTIVE DATE: December 17, 2001.

ADDRESS: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On October 9, 2001, the Committee for Purchase From People Who Are Blind or Severely Disabled published notices (66 F.R. 50397) of proposed addition to the Procurement List.

After consideration of the material presented to it concerning capability of qualified nonprofit agencies to provide the commodity and impact of the addition on the current or most recent contractors, the Committee has determined that the commodity listed below is suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the commodity to the Government.

2. The action will not have a severe economic impact on current contractors for the commodity.

3. The action will result in authorizing small entities to furnish the commodity to the Government.

4. There are no known regulatory alternatives which would accomplish the objectives of the Javits-Wagner-O'Day Act (41 U.S.C. 46-48c) in connection with the commodity proposed for addition to the Procurement List.

Accordingly, the following commodity is added to the Procurement List:

Commodity

Cap, Utility, USMC

8405-00-NSH-1001

8405-00-NSH-1002

8405-00-NSH-1003

8405-00-NSH-1004

8405-00-NSH-1005

8405-00-NSH-1006

8405-00-NSH-1007

8405-00-NSH-1008

8405-00-NSH-1009

8405-00-NSH-1010

8405-00-NSH-1011

8405-00-NSH-1012

8405-01-485-4313

8405-01-485-4314

8405-01-485-4315

8405-01-485-4316

8405-01-485-4317

8405-01-485-4318

8405-01-485-4299

8405-01-485-4304

8405-01-485-4305

8405-01-485-4307

8405-01-485-4308

8405-01-485-4309

This action does not affect current contracts awarded prior to the effective date of this addition or options that may be exercised under those contracts.

Sheryl D. Kennerly,
Director, Information Management.

[FR Doc. 01-28749 Filed 11-15-01; 8:45 am]

BILLING CODE 6353-01-P